ENVIRONMENTAL PROTECTION AGENCY

40 CFR Part 180

[EPA-HQ-OPP-2022-0361; FRL-11130-01-OCSPP]

Sodium Salt of Acifluorfen; Pesticide Tolerances

AGENCY: Environmental Protection Agency (EPA).

ACTION: Final rule.

SUMMARY: This regulation establishes tolerances for residues of sodium salt of acifluorfen in or on berry, low growing, subgroup 13-07G; soybean, vegetable, edible podded; and soybean, vegetable, succulent shelled. The Interregional Project Number 4 (IR-4) requested these tolerances under the Federal Food, Drug, and Cosmetic Act (FFDCA).

DATES: This regulation is effective July 27, 2023. Objections and requests for hearings must be received on or before September 25, 2023, and must be filed in accordance with the instructions provided in 40 CFR part 178 (see also Unit I.C. of the SUPPLEMENTARY INFORMATION).

ADDRESSES: The docket for this action, identified by docket identification (ID) number EPA-HQ-OPP-2022-0361, is available online at https://www.regulations.gov or in-person at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room and the OPP Docket is (202) 566-1744. For the latest status information on EPA/DC services, docket access, visit https://www.epa.gov/.

FOR FURTHER INFORMATION CONTACT: Charles Smith, Director, Registration Division (7505T), Office of Pesticide Programs, Environmental Protection Agency, 1200 Pennsylvania Ave. NW, Washington, DC 20460-0001; main telephone number: (202) 566-1030; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. How can I get electronic access to other related information?

You may access a frequently updated electronic version of EPA's tolerance regulations at 40 CFR part 180 through the Office of the Federal Register's e-CFR site at https://www.ecfr.gov/current/title-40.

C. How can I file an objection or hearing request?

Under FFDCA section 408(g), 21 U.S.C. 346a, any person may file an objection to any aspect of this regulation and may also request a hearing on those objections. You must file your objection or request a hearing on this regulation in accordance with the instructions provided in 40 CFR part 178. To ensure proper receipt by EPA, you must identify docket ID number EPA-HQ-OPP-2022-0361 in the subject line on the first page of your submission. All objections and requests for a hearing must be in writing and must be received by the Hearing Clerk on or before September 25, 2023. Addresses for mail and hand delivery of objections and hearing requests are provided in 40 CFR 178.25(b).

In addition to filing an objection or hearing request with the Hearing Clerk as described in 40 CFR part 178, please submit a copy of the filing (excluding any Confidential Business Information (CBI)) for inclusion in the public docket. Information not marked confidential pursuant to 40 CFR part 2 may be disclosed publicly by EPA without prior notice. Submit the non-CBI copy of your objection or hearing request, identified by docket ID number EPA-HQ-OPP-2022-0361, by one of the following methods:

• Federal eRulemaking Portal: https://www.regulations.gov. Follow the online instructions for submitting comments. Do not submit electronically any information you consider to be CBI or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at https://www.epa.gov/. Additional instructions on commenting or visiting the docket, along with more information about dockets generally, is available at https://www.epa.gov/.

II. Summary of Petitioned-For Tolerance

In the Federal Register of May 20, 2022 (87 FR 30855) (FRL-9410-13-OCSPP), EPA issued a document pursuant to FFDCA section 408(d)(3), 21 U.S.C. 346a(d)(3), announcing the filing of pesticide petition (2E8987) by the Interregional Research Project No. 4 (IR-4), Project Headquarters, North Carolina State University, 1730 Varsity Drive, Venture IV, Suite 210, Raleigh, NC 27606. The petition requested that 40 CFR 180.383 be amended to establish tolerances for residues of the herbicide sodium salt of acifluorfen, sodium 5-[2-chloro-4-(trifluoromethyl)phenoxy]-2-nitrobenzoate, and its metabolites (the corresponding acid, methyl ester, and amino analogues) in or on the following raw agricultural commodities: berry, low growing, subgroup 13-07G at 0.1 ppm; soybean, vegetable, edible podded at 0.09 ppm; and soybean, vegetable, succulent shelled at 0.09 ppm. The petition also requested that EPA remove the established tolerance for residues of sodium salt of acifluorfen in or on strawberry at 0.05 ppm. That document referenced a summary of the petition prepared by IR-4, the petitioner, which is available in the docket, https://www.regulations.gov. There were no comments received on the notice of filing.

III. Aggregate Risk Assessment and Determination of Safety

Section 408(b)(2)(A)(i) of FFDCA allows EPA to establish a tolerance (the legal limit for a pesticide chemical residue in or on a food) only if EPA determines that the tolerance is “safe.” Section 408(b)(2)(A)(ii) of FFDCA defines “safe” to mean that “there is a reasonable certainty that no harm will result from aggregate exposure to the pesticide chemical residue, including all anticipated dietary exposures and all other exposures for which there is reliable information.” This includes exposure through drinking water and in residential settings but does not include occupational exposure. Section 408(b)(2)(C) of FFDCA requires EPA to give special consideration to exposure of infants and children to the pesticide chemical residue in establishing a tolerance and to “ensure that there is a reasonable certainty that no harm will result to infants and children from aggregate exposure to the pesticide chemical residue. . . .”

Consistent with FFDCA section 408(b)(2)(D), and the factors specified therein, EPA has reviewed the available scientific data and other relevant information in support of this action. EPA has sufficient data to assess the hazards of and to make a determination on aggregate exposure for sodium salt of acifluorfen including exposure resulting from the tolerances established by this action. EPA's assessment of exposures and risks associated with sodium salt of acifluorfen follows.

A. Toxicological Profile

EPA has evaluated the available toxicity data and considered its validity, completeness, and reliability as well as the relationship of the results of the studies to human risk. EPA has also considered available information concerning the variability of the sensitivities of major identifiable subgroups of consumers, including infants and children.

The toxicology database for sodium salt of acifluorfen is complete and considered adequate for risk assessment. EPA has waived the subchronic inhalation study, subchronic neurotoxicity studies, and the developmental neurotoxicity study. Hematological effects (such as decreases in erythrocyte count, hematocrit, and/or mean cell volume) were noted in dog, rat, and mice. The liver (dog, rat, and mouse) and kidney (rat and mouse) are also target organs of oral exposure, and effects in these organs were noted following both subchronic and chronic exposures. Indications of liver toxicity included findings such as increased liver weight, hypertrophy, clinical chemistry findings, urinary urobilinogen, focal necrosis; proliferation of oval or bile duct cells, and fatty infiltration. Indications of kidney toxicity include increases in the following parameters: kidney weight; serum electrolytes, blood urea nitrogen (BUN), and creatinine; and urinary nitrate. There was quantitative fetal susceptibility demonstrated in the Sprague-Dawley rat developmental study, but no susceptibility in the Wistar rat or rabbit developmental studies, nor in the reproduction study. There are no genotoxicity, neurotoxicity or immunotoxicity concerns observed in the available toxicity studies. In the dermal toxicity test, skin irritation was observed at all doses, and systemic toxicity was noted at the limit dose.

EPA has classified sodium salt of acifluorfen as “likely to be carcinogenic to humans at high enough doses to cause the biochemical and histopathological changes in livers of rodents, but unlikely to be carcinogenic at doses below those causing these changes”. EPA determined that non-linear extrapolation is appropriate for risk assessment purposes. The non-linear reference dose (RfD) approach will be protective for chronic effects, including carcinogenicity.

Sodium salt of acifluorfen has low acute toxicity by the oral and dermal exposure routes (Toxicity Category III). However, it is a severe eye irritant (Toxicity Category I) and moderate dermal irritant (Toxicity Category II). It is not considered a skin sensitizer.

Specific information on the studies received and the nature of the adverse effects caused by sodium salt of acifluorfen as well as the no-observed-adverse-effect-level (NOAEL) and the lowest-observed-adverse-effect-level (LOAEL) from the toxicity studies can be found at https://www.regulations.gov in document titled “Sodium Acifluorfen. Human Health Risk Assessment of Proposed Tolerances and Uses on Edamame (Vegetable Soybean) and Crop Group Expansion and Use on Low-growing Berry Subgroup 13-07G” (hereinafter “Sodium Acifluorfen Human Health Risk Assessment”) on pages 24-32 in docket ID number EPA-HQ-OPP-2022-0361.

B. Toxicological Points of Departure/Levels of Concern

Once a pesticide's toxicological profile is determined, EPA identifies toxicological points of departure (POD) and levels of concern to use in evaluating the risk posed by human exposure to the pesticide. For hazards that have a threshold below which there is no appreciable risk, the toxicological POD is used as the basis for derivation of reference values for risk assessment. PODs are developed based on a careful analysis of the doses in each toxicological study to determine the dose at which no adverse effects are observed (the NOAEL) and the lowest dose at which adverse effects of concern are identified (the LOAEL). Uncertainty/safety factors are used in conjunction with the POD to calculate a safe exposure level—generally referred to as a population-adjusted dose (PAD) or a reference dose (RfD)—and a safe margin of exposure (MOE). For non-threshold risks, the Agency assumes that any amount of exposure will lead to some degree of risk. Thus, the Agency estimates risk in terms of the probability of an occurrence of the adverse effect expected in a lifetime. For more information on the general principles EPA uses in risk characterization and a complete description of the risk assessment process, see https://www.epa.gov/pesticide-science-and-assessing-pesticide-risks/cumulative-assessment-risk-pesticides.

A summary of the toxicological endpoints for sodium salt of acifluorfen used for human risk assessment can be found in the Sodium Acifluorfen Human Health Risk Assessment on pages 12-15.

C. Exposure Assessment

1. Dietary exposure from food and feed uses. In evaluating dietary exposure to sodium salt of acifluorfen, EPA considered exposure under the petitioned-for tolerances as well as all existing sodium salt of acifluorfen tolerances in 40 CFR 180.383. EPA assessed dietary exposures from sodium salt of acifluorfen in food as follows:

i. Acute exposure. Quantitative acute dietary exposure and risk assessments are performed for a food-use pesticide, if a toxicological study has indicated the possibility of an effect of concern occurring as a result of a 1-day or single exposure. Such effects were identified for sodium salt of acifluorfen.

In estimating the acute dietary exposure, EPA used the Dietary Exposure Evaluation Model software using the Food Commodity Intake Database (DEEM-FCID) Version 4.02, which uses the 2005-2010 food consumption data from the United States Department of Agriculture's (USDA's) National Health and Nutrition Examination Survey, What We Eat in America (NHANES/WWEIA). The acute dietary exposure assessment assumes tolerance-level residues and 100% crop treated (PCT) for all commodities and incorporates default processing factors.

ii. Chronic exposure. In conducting the chronic dietary exposure assessment, EPA used the 2005-2010 food consumption data from the USDA's NHANES/WWEIA and DEEM-FCID; version 4.02. The chronic dietary exposure assessment assumes tolerance-level residues and 100 PCT for all commodities and incorporates default processing factors.

iii. Cancer. EPA determines whether quantitative cancer exposure and risk assessments are appropriate for a food-use pesticide based on the weight of the evidence from cancer studies and other relevant data. If quantitative cancer risk assessment is appropriate, cancer risk may be quantified using a linear or nonlinear approach. If sufficient information on the carcinogenic mode of action is available, a threshold or nonlinear approach is used and a cancer RfD is calculated based on an earlier noncancer key event. If carcinogenic mode of action data are not available, or if the mode of action data determines a mutagenic mode of action, a default linear cancer slope factor approach is utilized. Based on the data summarized in Unit III.A., EPA has concluded that sodium salt of acifluorfen should be classified as “Likely to be Carcinogenic to Humans at high enough doses to cause the biochemical and histopathological changes in livers of rodents, but unlikely to be carcinogenic at doses below those causing these changes.” The non-linear RfD approach will be protective for chronic effects, including carcinogenicity. Cancer risk was quantified using the same estimates as discussed in Unit III.C.1.ii., chronic exposure.

iv. Anticipated residue and PCT information. EPA did not use anticipated residue and/or PCT information in the dietary assessment for sodium salt of acifluorfen. Tolerance level residues and/or 100 PCT were assumed for all food commodities.

2. Dietary exposure from drinking water. The Agency used screening level water exposure models in the dietary exposure analysis and risk assessment for sodium salt of acifluorfen in drinking water. These simulation models take into account data on the physical, chemical, and fate/transport characteristics of sodium salt of acifluorfen. Further information regarding EPA drinking water models used in pesticide exposure assessment can be found at https://www.epa.gov/science-and-assessing-pesticide-risks/pesticide-risk-assessment.

Based on the groundwater modeling results from Pesticide Root Zone Model for Ground Water (PRZM-GW), the estimated drinking water concentrations (EDWCs) of sodium salt of acifluorfen for acute and chronic exposures are estimated to be 146 parts per billion (ppb) for ground water. These modeled estimates of drinking water concentrations were directly entered into the dietary exposure model.

3. From non-dietary exposure. The term “residential exposure” is used in this document to refer to non-occupational, non-dietary exposure (e.g., for lawn and garden pest control, indoor pest control, termiticides, and flea and tick control on pets). Sodium salt of acifluorfen is not registered for any specific use patterns that would result in residential exposure, and the new uses would not result in residential exposures; therefore, direct exposures in residential settings are not expected for adults and children.

Further information regarding EPA standard assumptions and generic inputs for residential exposures may be found at https://www.epa.gov/pesticide-science-and-assessing-pesticide-risks/operating-procedures-residential-pesticide.

4. Cumulative effects from substances with a common mechanism of toxicity. Section 408(b)(2)(D)(v) of FFDCA requires that, when considering whether to establish, modify, or revoke a tolerance, the Agency consider “available information” concerning the cumulative effects of a particular pesticide's residues and “other substances that have a common mechanism of toxicity.”

Unlike other pesticides for which EPA has followed a cumulative risk approach based on a common mechanism of toxicity, EPA has not made a common mechanism of toxicity finding as to sodium salt of acifluorfen and any other substances, and sodium salt of acifluorfen does not appear to produce a toxic metabolite produced by other substances. For the purposes of this action, therefore, EPA has not assumed that sodium salt of acifluorfen has a common mechanism of toxicity with other substances.

For information regarding EPA's efforts to determine which chemicals have a common mechanism of toxicity and to evaluate the cumulative effects of such chemicals, see EPA's website at https://www.epa.gov/pesticide-science-and-assessing-pesticide-risks/cumulative-assessment-risk-pesticides.

D. Safety Factor for Infants and Children

1. In general. Section 408(b)(2)(C) of FFDCA provides that EPA shall apply an additional tenfold (10X) margin of safety for infants and children in the case of threshold effects to account for prenatal and postnatal toxicity and the completeness of the database on toxicity and exposure unless EPA determines, based on reliable data, that a different margin of safety will be safe for infants and children. This additional margin of safety is commonly referred to as the Food Quality Protection Act (FQPA) Safety Factor (SF). In applying this provision, EPA either retains the default value of 10X, or uses a different additional safety factor when reliable data available to EPA support the choice of a different factor.

2. Prenatal and postnatal sensitivity. There is evidence of increased susceptibility following in utero exposure to sodium salt of acifluorfen in the Sprague Dawley rat developmental toxicity study. However, there is low concern for developmental toxicity because the effects are well characterized with clear NOAEL/LOAEL values and the chosen points of departure for risk assessment for each scenario are protective of these effects.

3. Conclusion. EPA has determined that reliable data show that the safety of infants and children would be adequately protected if the FQPA SF were reduced from 10X to 1X. That decision is based on the following findings:

i. The toxicity database for sodium salt of acifluorfen is complete.

ii. The weight of evidence (WOE) suggests that sodium salt of acifluorfen is not neurotoxic. This conclusion is based on the following: (1) indications of treatment-related toxicity in the acute neurotoxicity study (ACN) are well-characterized, and the decreased motor activity observed could be an indication of systemic toxicity from the bolus dose; (2) the slight effect observed in fetuses in a developmental toxicity study with Sprague-Dawley rats (dilated brain ventricles) were not reproduced in another developmental toxicity study with Wistar rats nor in developmental toxicity studies with rabbits; and (3) there was no indication of treatment-related neurotoxicity observed in any studies for structurally-related chemicals (fomesafen, lactofen, and oxyfluorfen), except for decreased motor activity in an acute neurotoxicity study with fomesafen at the same dose where general systemic toxicity (body weight loss) was observed. No immunotoxicity was observed. In the dermal toxicity test, skin irritation was observed at all doses, and systemic toxicity was noted at the limit dose.

iii. There is evidence that sodium salt of acifluorfen results in increased susceptibility following exposure in utero rats in the Sprague Dawley rat prenatal developmental study. However, there is low concern because effects are well characterized with clear NOAEL/LOAEL values and the chosen points of departure for risk assessment for each scenario are protective of these effects.

iv. There are no residual uncertainties identified in the exposure database. The dietary food exposure assessments were performed based on 100 PCT and tolerance-level residues. EPA made conservative (protective) assumptions in the ground and surface water modeling used to assess exposure to sodium salt of acifluorfen in drinking water. These assessments will not underestimate the exposure and risks posed by sodium salt of acifluorfen.

E. Aggregate Risks and Determination of Safety

EPA determines whether acute and chronic dietary pesticide exposures are safe by comparing dietary exposure estimates to the acute population adjusted dose (aPAD) and the chronic population adjusted dose (cPAD).Short-, intermediate-, and chronic term aggregate risks are evaluated by comparing the estimated total food, water, and residential exposure to the appropriate PODs to ensure that an adequate MOE exists.

1. Acute risk. An acute aggregate risk takes into account exposure estimated from dietary consumption of food and drinking water. Using the exposure assumptions described in this unit for acute exposure, EPA has concluded that acute exposure to sodium salt of acifluorfen will occupy less than 1% of the aPAD for all infants less than 1 year old, the population group receiving the greatest exposure. There are no registered residential uses of sodium salt of acifluorfen so acute aggregate risk is equivalent to acute dietary risk, which is not of concern. A separate, lower POD was selected for females 13 to 49 years old for which the estimated risk was 3.9% of the aPAD.

2. Chronic risk. Using the exposure assumptions described in this unit for chronic exposure, EPA has concluded that chronic exposure to sodium salt of acifluorfen from food and water will utilize 87% of the cPAD for all infants less than 1 year old, the population group receiving the greatest exposure. There are no registered residential uses of sodium salt of acifluorfen, so chronic aggregate risk is equivalent to chronic dietary risk, which is not of concern.

3. Short-term/Intermediate-term risk. Short- and intermediate-term aggregate exposure take into account short- and intermediate-term residential exposure plus chronic exposure to food and water (considered to be a background exposure level). A short-term and an intermediate-term adverse effect were identified; however, sodium salt of acifluorfen is not registered for any use patterns that would result in short- or intermediate-term residential exposure. Short- and intermediate-term risk is assessed based on short- and intermediate-term residential exposure plus chronic dietary exposure. Because there is no short- or intermediate-term residential exposure and chronic dietary exposure has already been assessed under the appropriately protective cPAD (which is at least as protective as the POD used to assess short- or intermediate-term risk), no further assessment of short- or intermediate-term risk is necessary, and EPA relies on the chronic dietary risk assessment for evaluating short- and intermediate-term risk for sodium salt of acifluorfen

4. Aggregate cancer risk for U.S. population. As explained in Unit III.A., sodium salt of acifluorfen is classified as “likely to be carcinogenic to humans at doses high enough to cause the biochemical and histopathological changes in livers of rodents, but unlikely to be carcinogenic at doses below those causing these changes.” EPA determined that the non-linear RfD approach will be protective for chronic effects, including carcinogenicity. Because the chronic risks are below EPA's level of concern, sodium salt of acifluorfen is not expected to pose a cancer risk to humans.

5. Determination of safety. Based on these risk assessments, EPA concludes that there is a reasonable certainty that no harm will result to the general population, or to infants and children, from aggregate exposure to sodium salt of acifluorfen residues.

IV. Other Considerations

A. Analytical Enforcement Methodology

Adequate methods are available for enforcement of tolerances of sodium salt of acifluorfen in the Pesticide Analytical Manual (PAM) Volume II. PAM Volume II lists a gas chromatography/electron capture detector (GC/ECD) method, (Method I), for the determination of sodium salt of acifluorfen in/on plant commodities. Identifications are confirmed by gas chromatograph equipped with a mass spectroscopy (GC/MS), Method A in PAM II.

B. International Residue Limits

In making its tolerance decisions, EPA seeks to harmonize U.S. tolerances with international standards whenever possible, consistent with U.S. food safety standards and agricultural practices. EPA considers the international maximum residue limits (MRLs) established by the Codex Alimentarius Commission (Codex), as required by FFDCA section 408(b)(4).

Codex has not established any MRLs for sodium salt of acifluorfen; thus, harmonization is not an issue.

V. Conclusion

Therefore, tolerances are established for residues of sodium salt of acifluorfen, including its metabolites and degradates, in or on the following commodities: berry, low growing, subgroup 13-07G at 0.1 ppm; soybean, vegetable, edible podded at 0.09 ppm and soybean, vegetable, succulent shelled at 0.09 ppm. Additionally, EPA is removing the established tolerance for residues of sodium salt of acifluorfen in or on strawberry at 0.05 ppm.

VI. Statutory and Executive Order Reviews

This action establishes tolerances under FFDCA section 408(d) in response to a petition submitted to the Agency. The Office of Management and Budget (OMB) has exempted these types of actions from review under Executive Order 12866, entitled “Regulatory Planning and Review” (58 FR 51735, October 4, 1993). Because this action has been exempted from review under Executive Order 12866, this action is not subject to Executive Order 13211, entitled “Actions Concerning Regulations That Significantly Affect Energy Supply, Distribution, or Use” (66 FR 28355, May 22, 2001), or Executive Order 13045, entitled “Protection of Children from Environmental Health Risks and Safety Risks” (62 FR 19885, April 23, 1997). This action does not contain any information collections subject to OMB approval under the Paperwork Reduction Act (PRA) (44 U.S.C. 3501 et seq.), nor does it require any special considerations under Executive Order 12898, entitled “Federal Actions to Address Environmental Justice in Minority Populations and Low-Income Populations” (59 FR 7629, February 16, 1994).

Since tolerances and exemptions that are established on the basis of a petition under FFDCA section 408(d), such as the tolerances in this final rule, do not require the issuance of a proposed rule, the requirements of the Regulatory Flexibility Act (RFA) (5 U.S.C. 601 et seq.), do not apply.

This action directly regulates growers, food processors, food handlers, and food retailers, not States or Tribes, nor does this action alter the relationships or distribution of power and responsibilities established by Congress in the preemption provisions of FFDCA section 408(n)(4). As such, the Agency has determined that this action will not have a substantial direct effect on States or Tribal Governments, on the relationship between the National Government and the States or Tribal Governments, or on the distribution of power and responsibilities among the various levels of government or between the Federal Government and Indian Tribes. Thus, the Agency has determined that Executive Order 13132, entitled “Federalism” (64 FR 43255, August 10, 1999), and Executive Order 13175, entitled “Consultation and Coordination with Indian Tribal Governments” (65 FR 67249, November 9, 2000), do not apply to this action. In addition, this action does not impose any enforceable duty or contain any unfunded mandate as described under Title II of the Unfunded Mandates Reform Act (UMRA) (2 U.S.C. 1501 et seq.).

This action does not involve any technical standards that would require Agency consideration of voluntary consensus standards pursuant to section 12(d) of the National Technology Transfer and Advancement Act (NTTAA) (15 U.S.C. 272 note).

VII. Congressional Review Act

Pursuant to the Congressional Review Act (5 U.S.C. 801 et seq.), EPA will submit a report containing this rule and other required information to the U.S. Senate, the U.S. House of Representatives, and the Comptroller General of the United States prior to publication of the rule in the Federal Register. This action is not a “major rule” as defined by 5 U.S.C. 804(2).

List of Subjects in 40 CFR Part 180

Environmental protection, Administrative practice and procedure, Agricultural commodities, Pesticides and pests, Reporting and recordkeeping requirements.

Dated: July 19, 2023.
Charles Smith,
Director, Registration Division, Office of Pesticide Programs.

Therefore, for the reasons stated in the preamble, EPA is amending 40 CFR chapter I as follows:

PART 180—TOLERANCES AND EXEMPTIONS FOR PESTICIDE CHEMICAL RESIDUES IN FOOD

1. The authority citation for part 180 continues to read as follows:

Authority: 21 U.S.C. 321(q), 346a and 371.

2. In § 180.383, amend paragraph (a) by:

a. Designating the table to paragraph (a); and

b. In newly designated table 1 to paragraph (a):

i. Adding in alphabetical order the entries “Berry, low growing, subgroup 13-07G”; “Soybean, vegetable, edible podded”; and “Soybean, vegetable, succulent shelled”; and

ii. Removing the entry for “Strawberry”.

The additions read as follows:

§ 180.383 Sodium salt of acifluorfen; tolerances for residues.

(a) * * *

Table 1 to Paragraph (a)
Commodity | Parts per million
Berry, low growing, subgroup 13-07G | 0.1
* * * * *
Soybean, vegetable, edible podded | 0.09
Soybean, vegetable, succulent shelled | 0.09

* * * * *

[FR Doc. 2023-15900 Filed 7-26-23; 8:45 am]

BILLING CODE 6560-50-P